FEDERAL FINANCIAL INSTITUTIONS EXAMINATION COUNCIL

Appraisal Subcommittee; Information Collection Submitted for OMB Review and Comment Request

AGENCY: Appraisal Subcommittee, Federal Financial Institutions Examination Council.

ACTION: Notice.

SUMMARY: In accordance with the Paperwork Reduction Act of 1980 (44 U.S.C. Chapter 35), the Appraisal Subcommittee of the Federal Financial Institutions Examination Council (“ASC”) will submit to the Office of Management and Budget (“OMB”) for clearance the following information collection, without change from a previously approved collection.

DATES: Comments on this information collection must be received on or before January 30, 2008.

ADDRESSES: Send comments to Marc L. Weinberg, Acting Executive Director and General Counsel, Appraisal Subcommittee, 2000 K Street, NW., Suite 310, Washington, DC 20006; and Mark D. Menchik, Clearance Officer, Office of Management and Budget, New Executive Office Building, Rom 10236, Washington, DC 20503.

FOR FURTHER INFORMATION CONTACT: Marc L. Weinberg, Acting Executive Director and General Counsel, Appraisal Subcommittee, 2000 K Street, NW., Suite 310, Washington, DC 20006, from whom copies of the information collection and supporting documents are available.

Summary of Revision

Title: Temporary Waiver Requests, Rules 1102.1 through 1102.7, 12 CFR part 1102, subpart A.

Type of Review: Regular submission.

Description: The information will be used by the ASC and its staff Requests for temporary waiver relief under Sec. 1119(b) of Title XI of the Financial Institutions Reform, Recovery, and Enforcement Act of 1989, 12 U.S.C. 3348(b)).

Form Number: None.

OMB Number: 3139-0003.

Affected Public: Individuals and households.

Number of Respondents: 1 respondent.

Total Annual Responses: 1 response.

Average Hours per Response: 3 hours.

Total Annual Burden Hours: 3 hours.

By the Appraisal Subcommittee of the Federal Financial Institutions Examination Council.
Dated: December 21, 2007.
Marc L. Weinberg,
Acting Executive Director & General Counsel.

[FR Doc. 07-6237 Filed 12-28-07; 8:45 am]

BILLING CODE 6210-01-M